SURFACE TRANSPORTATION BOARD

[Docket No. FD 36215]

West Memphis Base Railroad L.L.C.—Lease, Operation, and Future Purchase Exemption—City of West Memphis, Ark.

West Memphis Base Railroad, L.L.C. (WMBR), a noncarrier, has filed a verified notice of exemption under 49 CFR 1150.31 to lease from the City of West Memphis, Ark. (the City) and to operate approximately 2.25 miles of rail line, extending from milepost 353.281 to milepost 355.539 in West Memphis, Crittenden County, Ark. (the Line), pursuant to an agreement entered into with the City.¹ In addition, the agreement gives WMBR an option to purchase the Line, which WMBR anticipates that it will be in a position to exercise in October of this year.

¹ WMBR and the City have agreed for WMBR to lease the Line for an initial term expiring at the later occurrence of: (1) Completion of certain publicly funded improvements to the Line, or (2) December 31, 2020.

WMBR states that the proposed transaction does not involve, and the agreement between WMBR and the City does not include, any provision or agreement that would limit future interchange with a third-party connecting carrier.

WMBR certifies that its projected annual revenues as a result of this transaction will not exceed those that would qualify it as a Class III rail carrier and that the projected annual revenues will not exceed $5 million.

The transaction (including the option to purchase) may be consummated on or after September 27, 2018, the effective date of the exemption (30 days after the verified notice of exemption was filed).

If the verified notice contains false or misleading information, the exemption is void ab initio. Petitions to revoke the exemption under 49 U.S.C. 10502(d) may be filed at any time. The filing of a petition to revoke will not automatically stay the effectiveness of the exemption. Petitions for stay must be filed no later than September 20, 2018 (at least seven days before the exemption becomes effective).

An original and 10 copies of all pleadings, referring to Docket No. FD 36215, must be filed with the Surface Transportation Board, 395 E Street SW, Washington, DC 20423-0001. In addition, one copy of each pleading must be served on Bradon J. Smith, Fletcher & Sippel LLC, 29 North Wacker Drive, Suite 800, Chicago, IL 60606.

According to WMBR, this action is categorically excluded from environmental review under 49 CFR 1105.6(c).

Board decisions and notices are available on our website at www.stb.gov.

Decided: September 10, 2018.
By the Board, Scott M. Zimmerman, Acting Director, Office of Proceedings.
Tammy Lowery,
Clearance Clerk.

[FR Doc. 2018-19944 Filed 9-12-18; 8:45 am]

BILLING CODE 4915-01-P